DEPARTMENT OF COMMERCE

International Trade Administration

[A-351-828]

Notice of Extension of Time Limit for Preliminary Results of Antidumping Duty New Shipper Review: Certain Hot-Rolled Carbon Steel Flat Products From Brazil

AGENCY: AGENCY: Import Administration, International Trade Administration, Department of Commerce.

EFFECTIVE DATE: April 4, 2005.

FOR FURTHER INFORMATION CONTACT: Helen Kramer or Kristin Najdi at (202) 482-0405 or (202) 482-8221, respectively; AD/CVD Operations, Office 7, Import Administration, International Trade Administration, U.S. Department of Commerce, 14th Street and Constitution Avenue, NW, Washington, DC 20230.

SUPPLEMENTARY INFORMATION:

Background

On September 27, 2004, Companhia Siderúrgica de Tubarão (CST) requested that the Department conduct a new shipper review of its exports to the United States during the period March 1, 2004, through August 31, 2004. On October 28, 2004, the Department published the notice initiating a new shipper review of CSN. See Notice of Initiation of Antidumping Duty New Shipper Review, 69 FR 62866 (October 28, 2004). The preliminary results are currently due not later than April 20, 2005.

Extension of Time Limits for Preliminary Results

Section 751(a)(2)(B)(iv) of the Tariff Act of 1930, as amended (the Act), and 19 CFR 351.214(i)(1) require the Department to issue the preliminary results of a new shipper review within 180 days after the date on which the new shipper review was initiated and final results of a review within 90 days after the date on which the preliminary results were issued. The Department may, however, extend the deadline for completion of the preliminary results of a new shipper review to 300 days if it determines that the case is extraordinarily complicated. See 19 CFR 351.214(i)(2). The Department has determined that additional time is necessary to complete the preliminary results because issues raised in the cost investigation and the scheduling of sales and cost verifications make this case extraordinarily complicated. Therefore, the preliminary results of this new shipper review cannot be completed within the statutory time limit of 180 days.

Section 751(a)(2)(B)(iv) of the Act and 19 CFR 315.214(i)(2) allow the Department to extend the deadline for the preliminary results of a new shipper review to 300 days after the date on which the new shipper review was initiated. For the reasons noted above, we are extending the time for the completion of preliminary results until no later than August 18, 2005. The deadline for the final results will continue to be 90 days after the date on which the preliminary results were issued.

Dated: March 29, 2005.
Barbara E. Tillman,
Acting Deputy Assistant Secretary for Import Administration.

[FR Doc. E5-1488 Filed 4-1-05; 8:45 am]

BILLING CODE: 3510-DS-S